DEPARTMENT OF COMMERCE

International Trade Administration

A-570-918

Steel Wire Garment Hangers from the People's Republic of China: Initiation and Preliminary Results of Changed Circumstances Review, and Intent to Revoke Order in Part

AGENCY: Import Administration, International Trade Administration, Department of Commerce.

EFFECTIVE DATE: March 19, 2009.

SUMMARY: On February 3, 2009, the Department of Commerce (“Department”) received a request for a changed circumstances review and a request to revoke, in part, the antidumping duty order on steel wire garment hangers from the People's Republic of China with respect to chrome-plated steel wire garment hangers with a diameter of 3.4 mm or greater. Petitioner submitted a letter to the Department expressing lack of interest in antidumping duty relief from imports of chrome-plated steel wire garment hangers with a diameter of 3.4 mm or greater. Therefore, we are notifying the public of our intent to revoke, in part, the antidumping duty order as it relates to imports of chrome-plated steel wire garment hangers with a diameter of 3.4 mm or greater as described below. The Department invites interested parties to comment on these preliminary results.

FOR FURTHER INFORMATION CONTACT: Catherine Bertrand, Import Administration, International Trade Administration, U.S. Department of Commerce, 14th Street and Constitution Avenue, N.W., Washington DC 20230; telephone (202) 482-3207.

Background

On October 6, 2008, the Department published the antidumping duty order on steel wire garment hangers from the People's Republic of China. See Notice of Antidumping Duty Order: Steel Wire Garment Hangers from the People's Republic of China, 73 FR 58111 (October 6, 2008). On February 3, 2009, the Department received a request on behalf of M&B Metal Products Company, Inc. (“Petitioner”) for a changed circumstances review to revoke, in part, the antidumping duty order on steel wire garment hangers from the People's Republic of China with respect to chrome-plated steel wire garment hangers with a diameter of 3.4 mm or greater. We did not receive comments from any other party.

Scope of the Order

The merchandise that is subject to the order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. The products subject to the order are currently classified under HTSUS subheadings 7326.20.0020 and 7323.99.9060.

Although the HTSUS subheadings are provided for convenience and customs purposes, the written description of the merchandise is dispositive.

Initiation and Preliminary Results of Changed Circumstances Review, and Intent to Revoke Order in Part

At the request of Petitioner, and in accordance with sections 751(b)(1) and (d)(1) of the Tariff Act of 1930, as amended (“Act”), and 19 CFR 351.216, the Department is initiating a changed circumstances review of steel wire garment hangers from the People's Republic of China to determine whether partial revocation of the antidumping duty order is warranted with respect to chrome-plated steel wire garment hangers with a diameter of 3.4 mm or greater. Section 782(h)(2) of the Act and 19 CFR 351.222(g)(1)(i) provide that the Department may revoke an order (in whole or in part) if it determines that producers accounting for substantially all of the production of the domestic like product have no further interest in the order, in whole or in part. In addition, in the event the Department determines that expedited action is warranted, 19 CFR 351.221(c)(3)(ii) permits the Department to combine the notices of initiation and preliminary results.

In accordance with section 751(b) of the Act, and 19 CFR 351.222(g)(l)(i) and 351.221(c)(3), we are initiating this changed circumstances review and have determined that expedited action is warranted. Petitioner stated in its February 3, 2009, request that itself, Shanti Industries Inc., and Metro Supply Company account for all or substantially all of the steel wire garment hangers production in the United States. Petitioner further stated that Shanti Industries Inc., and Metro Supply Company support the request for changed circumstances review as filed by Petitioner on February 3, 2009. In accordance with section 751(b) of the Act and 19 CFR 351.222(g)(1)(i), we find Petitioner, along with the other domestic producers supporting the request, comprise substantially all of the production of the domestic like product. See Petitioner's Request for Changed Circumstances Review dated February 3, 2009. Petitioner has expressed a lack of interest in the order, in part, with respect to chrome-plated steel wire garment hangers with a diameter of 3.4 mm or greater. Because this changed circumstances request was filed less than 24 months after the date of publication of notice of the final determination in an investigation, pursuant to 19 CFR 351.216(c), the Department must determine whether good cause exists. We find that Petitioners' affirmative statement of no interest in the order with respect to chrome-plated steel wire garment hangers with a diameter of 3.4 mm or greater constitutes good cause for the conduct of this review. Based on the expression of no interest by Petitioner and the supporting domestic producers, and absent any objection by any other interested parties, we have preliminarily determined that the domestic producers of the like product have no interest in the continued application of the antidumping duty order on steel wire garment hangers to the merchandise that is subject to this request. Accordingly, we are notifying the public of our intent to revoke, in part, the antidumping duty order as it relates to imports of chrome-plated steel wire garment hangers with a diameter of 3.4 mm or greater. Therefore, we intend to change the scope of the order on steel wire garment hangers from the People's Republic of China to include the following exclusion: Excluded from the scope are chrome-plated steel wire garment hangers with a diameter of 3.4 mm or greater.

Public Comment

Interested parties are invited to comment on these preliminary results. Written comments may be submitted no later than 14 days after the date of publication of these preliminary results. Rebuttals to written comments, limited to issues raised in such comments, may be filed no later than 21 days after the date of publication of these preliminary results. The Department will issue the final results of this changed circumstances review, which will include its analysis of any written comments, no later than 270 days after the date on which this review was initiated, or within 45 days if all parties agree to our preliminary results. See 19 CFR 351.216(e).

If final revocation occurs, we will instruct U.S. Customs and Border Protection to end the suspension of liquidation for the merchandise covered by the revocation on the effective date of the notice of revocation and to release any cash deposit or bond. See 19 CFR 351.222(g)(4). The current requirement for a cash deposit of estimated antidumping duties on all subject merchandise will continue unless and until it is modified pursuant to the final results of this changed circumstances review.

This initiation and preliminary results of review and notice are in accordance with sections 751(b) and 777(i) of the Act and 19 CFR 351.216, 351.221, and 351.222.

Dated: March 13, 2009.
Ronald K. Lorentzen,
Acting Assistant Secretary for Import Administration.

[FR Doc. E9-6022 Filed 3-18-09; 8:45 am]

BILLING CODE 3510-DS-S